DEPARTMENT OF COMMERCE

Foreign-Trade Zones Board

[B-12-2023]

Foreign-Trade Zone (FTZ) 81; Authorization of Production Activity; CAN-ONE (USA), Inc.; (Aluminum Beverage Cans); Nashua, New Hampshire

On January 19, 2023, CAN-ONE (USA), Inc. submitted a notification of proposed production activity to the FTZ Board for its facility within Subzone 81F, in Nashua, New Hampshire.

The notification was processed in accordance with the regulations of the FTZ Board (15 CFR part 400), including notice in the Federal Register inviting public comment (88 FR 8796, February 10, 2023). On May 19, 2023, the applicant was notified of the FTZ Board's decision that no further review of the activity is warranted at this time. The production activity described in the notification was authorized, subject to the FTZ Act and the FTZ Board's regulations, including section 400.14.

Dated: May 19, 2023.
Elizabeth Whiteman,
Executive Secretary.

[FR Doc. 2023-11060 Filed 5-23-23; 8:45 am]

BILLING CODE 3510-DS-P